DEPARTMENT OF THE INTERIOR

Bureau of Land Management

[LLNVS00530 L13300000.EP0000 241A; 10-08807; MO#4500013258; TAS: 14X1109]

Notice of Availability of the Draft Environmental Impact Statement for the Proposed Sloan Hills Competitive Mineral Material Sales, Clark County, NV

AGENCY: Bureau of Land Management, Interior.

ACTION: Notice of availability.

SUMMARY: In accordance with the National Environmental Policy Act (NEPA) of 1969, as amended, the Bureau of Land Management (BLM), Southern Nevada District Office in Las Vegas, Nevada has prepared a Draft Environmental Impact Statement (EIS) for the proposed competitive sale of mineral materials in the Sloan Hills of Southern Nevada, and by this notice announces the availability of the Draft EIS and the opening of the comment period.

DATES: To ensure comments will be considered, the BLM must receive written comments on the Proposed Sloan Hills Competitive Mineral Materials Sales Draft EIS within 120 days following the date the Environmental Protection Agency publishes its Notice of Availability in the Federal Register. The BLM will announce future meetings or hearings and any other public involvement activities at least 15 days in advance through public notices, media releases, and/or mailings.

ADDRESSES: You may submit written comments related to the Proposed Sloan Hills Competitive Mineral Materials Sales by any of the following methods:

• Web site: http://www.blm.gov/nv/st/en/fo/lvfo.html.

• E-mail: sloanhillseis@blm.gov.

• Fax: 702-515-5023, Attention Robert B. Ross, Jr.

• Mail: Robert B. Ross, Jr., Field Manager, BLM Las Vegas Field Office, 4701 North Torrey Pines Drive, Las Vegas, Nevada 89130-2301.

Copies of the Draft EIS for the Proposed Sloan Hills Competitive Mineral Materials Sales are available in the Las Vegas Field Office at the above address and at the following public library locations in Nevada:

• Paseo Verde Library, 280 South Green Valley Parkway, Henderson.

• James I Gibson Library, 280 South Water Street, Henderson.

• Enterprise Library, 25 East Shelbourne Avenue, Las Vegas.

FOR FURTHER INFORMATION CONTACT: For further information contact Shonna Dooman at (702) 515-5174 or e-mail: sloanhillseis@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Draft EIS describes and analyzes the proposed competitive sale of mineral materials within the Sloan Hills of Southern Nevada. The proposed project site consists of a total of 640 acres south of Las Vegas and east of Interstate 15 near the community of Sloan. The proposed project site includes the entire south half Section 29 (the North Site) and the entire north half of Section 32 (the South Site) located in Township 23 South, Range 61 East. The proposed action is consistent with 43 CFR 3600 and is authorized under the Mineral Materials Act of 1947 and the Federal Land Policy Management Act of 1976.

Two mining companies, CEMEX and Service Rock Products Corporation, have submitted mining plans of operations proposing to mine and process limestone and dolomite from the proposed project site. In addition to open pit mines, each proponent is proposing ancillary facilities that would include a minerals processing plant and other support facilities, which may include office buildings, truck maintenance buildings, fueling facilities, scale houses, parking facilities, an employee training facility, parts storage area, and a quality control/quality assurance laboratory.

Four action alternatives are analyzed in the Draft EIS, ranging from 320 acres to 640 acres. Alternative 1, at 640 acres, includes the sale of mineral materials in the North Site and the South Site to two mining companies that would operate independently and results in a single open pit mine. Alternative 2, at 320 acres, includes the sale of mineral materials in the North Site only. Alternative 3, at 320 acres, includes the sale of mineral materials in the South Site only. Alternative 4, at 640 acres, includes the sale of mineral materials in both the North Site and the South Site to a single mining company. Alternative 5 is the No Action Alternative.

A Notice of Intent to prepare a Draft EIS was published in the Federal Register on Monday, June 11, 2007. Scoping of the project occurred from June 11, 2007 to January 5, 2008. Two public scoping meetings were held at the Henderson Executive Airport on December 5 and 6, 2007. A total of 126 individuals submitted comments during the scoping period. Comments received pertained to a variety of broad categories, including alternatives, mining operations, and physical/natural resources.

The Draft EIS addresses the following issues identified during scoping: NEPA process (consultations/coordination, proposal description, alternatives, and connected action/cumulative impacts); social resources (cultural resources, visual resources, noise, land use, recreation, transportation, and socioeconomic resources); and physical/natural resources (biological resources, water resources, paleontological resources and geologic/soil resources).

Please note that public comments and information submitted including names, street addresses, and e-mail addresses of persons who submit comments will be available for public review and disclosure at the above address during regular business hours (8 a.m. to 4:30 p.m.), Monday through Friday, except holidays.

Before including your address, phone number, e-mail address, or other personal identifying information in your comment, you should be aware that your entire comment—including your personal identifying information—may be made publicly available. While you may ask us in your comment to withhold your personal identifying information from public review, we cannot guarantee that we will be able to do so.

Authority: 40 CFR 1506.6 and 1506.10.

Robert B. Ross Jr.,
Manager, Las Vegas Field Office.

[FR Doc. 2011-19651 Filed 8-4-11; 8:45 am]

BILLING CODE 4310-HC-P